DEPARTMENT OF TRANSPORTATION

Federal Aviation Administration

Notice of Submission Deadlines for Schedule Information for John F. Kennedy International Airport and Newark Liberty International Airport for the Winter 2008/2009 Scheduling Season

AGENCY: Department of Transportation, Federal Aviation Administration (FAA).

ACTION: Notice of submission deadline.

SUMMARY: Under this notice, the FAA announces May 15, 2008, as the deadline for submitting schedule information for John F. Kennedy International Airport (JFK) and Newark Liberty International Airport (EWR) for the Winter 2008/2009 scheduling season. The FAA previously designated the airports as Level 3, Coordinated Airports under the International Air Transport Association (IATA) Worldwide Scheduling Guidelines. The FAA deadline coincides with the submission deadline established by IATA for the Winter 2008/2009 Schedules Conference. The FAA requests schedule information for JFK and EWR for planned flights from 6 a.m. through 10:59 p.m., Eastern Time, or 1100 UTC through 0359 UTC.

DATES: Schedules must be submitted no later than May 15, 2008.

SUPPLEMENTARY INFORMATION: The FAA adopted an Order limiting scheduled operations at JFK effective March 30, 2008.¹ The FAA also has proposed operating limitation at EWR beginning June 1, 2008,² although a final order has not yet been adopted by the FAA. As noted above, however, the FAA has already designated both EWR and JFK to be IATA Level 3, Coordinated Airports, and schedule information for the winter season should be submitted by the deadline.

¹ 73 FR 3,510 (Jan. 18, 2008). The FAA published a technical amendment in the Federal Register on February 14, 2008, 73 FR 8,737.

² 73 FR 14,552 (Mar. 18, 2008).

The FAA's adopted Order for JFK and the proposed Order for EWR contemplate the allocation of new capacity by an auction. The details of an auction are under development and are not expected to be in place prior to the beginning of the winter scheduling season. As noted in the proposed and adopted orders, any Operating Authorizations for winter 2008/2009 beyond historic levels or the level approved by the FAA in the orders’ appendices would be assigned without historical precedence for the following scheduling season.

The FAA is requesting complete schedule submissions from carriers that detail changes from their currently approved schedules. This information may include flight numbers, airport origin and departure information, proposed arrival and departure times, frequency, equipment type, effective dates, type of flight (passenger, cargo, charter, etc.) and other relevant information. Carriers may also indicate there are no changes from the approved summer schedules. The FAA expects only a limited number of Operating Authorizations will be available for the winter scheduling season for new operations or retimed flights during peak hours.

ADDRESSES: Schedules may be submitted by mail to Slot Administration Office, AGC-240, Office of the Chief Counsel, 800 Independence Ave., SW., Washington, DC 20591; facsimile: 202-267-7277; ARINC: DCAYAXD; or by e-mail to: 7-AWA-slotadmin@faa.gov.

FOR FURTHER INFORMATION CONTACT: James Tegtmeier, Office of the Chief Counsel, AGC-40, Federal Aviation Administration, 800 Independence Avenue, SW., Washington, DC 20591; e-mail James.Tegtmeier@faa.gov.

Issued in Washington, DC on May 2, 2008.
Rebecca B. Macpherson,
Assistant Chief Counsel for Regulations.

[FR Doc. 08-1227 Filed 5-2-08; 4:10 pm]

BILLING CODE 4910-13-P